NUCLEAR REGULATORY COMMISSION

[Docket Nos. 52-027-COL and 52-028-COL; ASLBP No. 09-875-03-COL-BD01]

South Carolina Electric & Gas Company, Acting for Itself and as Agent for the South Carolina Public Service Authority (also Referred to as Santee Cooper); Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board (Board) is being established to preside over the following proceeding:

South Carolina Electric & Gas Company, Acting for Itself and as Agent for the South Carolina Public Service Authority (also Referred to as Santee Cooper) (Virgil C. Summer Nuclear Station, Units 2 and 3)

This proceeding concerns Petitions to Intervene from (1) Joseph Wojcicki, and (2) the Sierra Club and Friends of the Earth, which were submitted in response to an October 10, 2008 Notice of Order, Hearing, and Opportunity to Petition for Leave to Intervene regarding an application seeking approval of a combined license for the Virgil C. Summer Nuclear Station, Units 2 and 3, to be located in Fairfield County, South Carolina (73 FR 60,362). The South Carolina Office of Regulatory Staff also filed a request to participate in any hearing as an interested State.

The Board is comprised of the following administrative judges: Paul B. Abramson, Chairman, Atomic Safety and Licensing Board Panel, U.S. Nuclear Regulatory Commission, Washington, DC 20555-0001. Michael F. Kennedy, Atomic Safety and Licensing Board Panel, U.S. Nuclear Regulatory Commission, Washington, DC 20555-0001. Jeffrey D. E. Jeffries, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 18th day of December 2008.
E. Roy Hawkens,
Chief Administrative Judge, Atomic Safety and Licensing Board Panel.

[FR Doc. E8-30665 Filed 12-23-08; 8:45 am]

BILLING CODE 7590-01-P